DEPARTMENT OF HEALTH AND HUMAN SERVICES

Centers for Disease Control and Prevention

[60Day-07-06AY]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the Spanish-Language Campaign “Good Morning Arthritis, Today you will not defeat us.”—New—National Center for Chronic Disease Prevention and Health Promotion (NCCDPHP), Centers for Disease Control and Prevention (CDC).

Background and Brief Description

Arthritis affects nearly 43 million Americans, or about one in every six people, and is the leading cause of disability among adults in the United States. Because of the broad public health impact of this disease, the Centers for Disease Control and Prevention (CDC) developed the National Arthritis Action Plan in 1998 as a comprehensive approach to reducing the burden of arthritis in the United States.

As part of its efforts to implement the National Arthritis Action Plan, CDC developed and tested a health communications campaign promoting physical activity among Caucasian and African-American adults with arthritis. In 2003-2004, CDC developed a similar campaign for Spanish-speaking people with arthritis. Hispanic populations have a slightly lower prevalence rate of self-reported, doctor-diagnosed arthritis, but Hispanics with arthritis report greater work limitations, and higher rates of severe pain than do Caucasian populations with arthritis.

The Spanish-language campaign, Good Morning Arthritis, Today you will not defeat us, is designed to reach Spanish speaking adults with arthritis who are aged 45-64, who have high school education or less, and whose annual income is less than $35,000. The key message elements of the Spanish language health communications campaign are similar to its English counterpart, as are the campaign objectives and materials. The campaign objectives are to increase target audience members' (1) Beliefs about physical activity as an arthritis management strategy (there are “things they can do” to make arthritis better, and physical activity is an important part of arthritis management); (2) Knowledge of the benefits of physical activity and appropriate physical activity for people with arthritis; (3) Confidence in their ability to be physically active, and (4) Trial of physical activity behaviors. Based on formative research, campaign materials refer to exercise instead of physical activity. Campaign materials include; print ads, 30- and 60-second radio ads and public service announcements, and desktop displays with brochures for pharmacies, doctors' offices, and community centers.

In the Fall of 2005, the Spanish language campaign was pilot tested by 5 state health departments that receive funding from CDC for their arthritis programs. CDC will eventually disseminate these materials to all 36 CDC-funded states. The 5 preliminary pilot tests focused on reach and exposure; a more thorough evaluation is necessary to assess impact of the campaign. This information will be used to guide the public health practice of the 36 state arthritis programs and their partners.

CDC will conduct an evaluation of the impact of the Spanish language health communications campaign on the exercise/physical activity-related attitudes, beliefs, and behaviors among the target audience of Spanish-speaking people with arthritis. There are no costs to the respondents other than their time.

Estimated Annualized Burden Hours
Respondents | Number of respondents | Number of responses per respondent | Average burden per response (in hours) | Total burden (in hours)
Screening Survey | 12,000 | 1 | 2/60 | 400
Telephone Survey | 2,500 | 1 | 15/60 | 625
Total |  |  |  | 1,025

Dated: March 28, 2007.
Joan F. Karr,
Acting Reports Clearance Officer, Centers for Disease Control and Prevention.

[FR Doc. E7-6276 Filed 4-3-07; 8:45 am]

BILLING CODE 4163-18-P